NATIONAL SCIENCE FOUNDATION

Large Scale Networking (LSN)—Middleware and Grid Interagency Coordination (MAGIC) Team

AGENCY: The Networking and Information Technology Research and Development (NITRD) National Coordination Office (NCO), National Science Foundation.

ACTION: Notice of meetings.

SUMMARY: The MAGIC Team, established in 2002, provides a forum for information sharing among Federal agencies and non-Federal participants with interests and responsibility for middleware, Grid, and cloud projects. The MAGIC Team reports to the Large Scale Networking (LSN) Interagency Working Group (IWG). The agendas, minutes, and other meeting materials and information can be found on the MAGIC website at: https://www.nitrd.gov/nitrdgroups/index.php?title=Middleware_And_Grid_Interagency_Coordination (MAGIC).

DATES: The MAGIC Team meetings are held on the first Wednesday of each month (February 2018-December 2018), noon-2:00 p.m. Eastern time, at the NITRD National Coordination Office, 490 L'Enfant Plaza SW, Suite 8001, Washington, DC 20024. Please note that public seating for these meetings is limited and is available on a first-come, first served basis. WebEx and/or Teleconference participation is available for each meeting. Please reference the MAGIC Team website for updates. Further information about the NITRD may be found at: http://www.nitrd.gov/.

FOR FURTHER INFORMATION CONTACT: Ms. Joyce Lee at joyce.lee@nitrd.gov or (202) 459-9674.

Public Comments: The government seeks individual input; attendees/participants may provide individual advice only. Members of the public are welcome to submit their comments to magic-comments@nitrd.gov. Please note that under the provisions of the Federal Advisory Committee Act (FACA), all public comments and/or presentations will be treated as public documents and may be made available to the public via the MAGIC Team website.

Submitted by the National Science Foundation in support of the Networking and Information Technology Research and Development (NITRD) National Coordination Office (NCO) on January 30, 2018.

Suzanne H. Plimpton,
Reports Clearance Officer, National Science Foundation.

[FR Doc. 2018-02100 Filed 2-1-18; 8:45 am]

BILLING CODE 7555-01-P